NUCLEAR REGULATORY COMMISSION

[Docket No. 40-8968-ML-REN; ASLBP No. 03-809-01-ML-REN]

Hydro Resources, Inc., Crownpoint, New Mexico; Notice of Reconstitution

Pursuant to the authority contained in 10 CFR 2.722 and 2.1209, the Special Assistant in the above-captioned 10 CFR part 2, subpart L proceeding is hereby replaced by appointing Administrative Judge Richard F. Cole in place of Administrative Judge Thomas D. Murphy.

All correspondence, documents, and other material shall be filed with the Special Assistant in accordance with 10 CFR 2.1203. The address of the new Special Assistant is: Administrative Judge Richard F. Cole, Special Assistant, Atomic Safety and Licensing Board Panel, U.S. Nuclear Regulatory Commission, Washington, DC 20555-0001.

Issued at Rockville, Maryland, this 16th day of September, 2003.
G. Paul Bollwerk, III,
Chief Administrative Judge, Atomic Safety and Licensing Board Panel.

[FR Doc. 03-24210 Filed 9-24-03; 8:45 am]

BILLING CODE 7590-01-P